ENVIRONMENTAL PROTECTION AGENCY

[FRL-7043-8]

Notice of Proposed Administrative Settlement Pursuant to the Comprehensive Environmental Response, Compensation, and Liability Act

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement concerning the Antifreeze, Inc., Superfund Site, with Kenneth Michael Stansbury and Noelie Andree C. Stansbury, husband and wife, (“Settling Parties”) the United States Enviromental Protection Agency (“EPA”), and the United States Department of Justice (“DOJ”).

The settlement requires the Settling Parties to pay a total of $21,000.00 in reimbursement of Past Response Costs, plus an additional sum for interest on the amount calculated from the date set forth in the definition of Past Response Costs in the Settlement Agreement through the date of payment to the Hazardous Substances Superfund.

The settlement includes a covenant not to sue under section 107 of CERCLA, 42 U.S.C. 9607.

For thirty (30) days following the date of publication of this notice, the Agency will receive written comments relating to the settlement. The Agency will consider all comments received and may withdraw or withhold its consent to the proposed settlement if comments received disclose facts or considerations which indicate that the settlement is inappropriate, improper, or inadequate. The Agency's response to any comments received will be available for public inspection at 1445 Ross Avenue, Dallas, Texas 75202-2733.

DATES: Comments must be submitted on or before September 27, 2001.

ADDRESSES: The proposed settlement and additional background information relating to the settlement are available for public inspection at 1445 Ross Avenue, Dallas, Texas 75202-2733. A copy of the proposed settlement may be requested from Barbara J. Aldridge (6SF-AC), U.S. Environmental Protection Agency, Region 6, 1445 Ross Avenue, Dallas, Texas 75202-2733 at (214) 665-2712. Comments should reference the Antifreeze, Inc. Superfund Site, Abbeville, Vermilion Parish, Louisiana and EPA Docket Number 06-04-01, and should be addressed to Joseph E. Compton III at the address listed below.

FOR FURTHER INFORMATION CONTACT: Joseph E. Compton III (6RC-S), U.S. Environmental Protection Agency, 1445 Ross Avenue, Dallas, Texas 75202-2733 at (214) 665-8506.

Dated: August 17, 2001.
Jerry Clifford,
Acting Regional Administrator, Region 6.

[FR Doc. 01-21705 Filed 8-27-01; 8:45 am]

BILLING CODE 6560-50-P